DEPARTMENT OF COMMERCE

International Trade Administration

(A-357-812)

Honey From Argentina: Extension of Time Limit for Preliminary Results of Administrative Review of Antidumping Duty Order

AGENCY: Import Administration, International Trade Administration, Department of Commerce.

EFFECTIVE DATE: September 6, 2006.

FOR FURTHER INFORMATION CONTACT: Tyler Weinhold, or Robert James, AD/CVD Operations, Office 7, Import Administration, International Trade Administration, U.S. Department of Commerce, 14th Street and Constitution Avenue, NW, Washington DC 20230; telephone: (202) 482-1121 or (202) 482-0649, respectively.

SUPPLEMENTARY INFORMATION:

Background

On November 1, 2005, the Department of Commerce (the Department) published a notice of opportunity to request administrative review of the antidumping duty order on, inter alia, Honey from Argentina. See Notice of Opportunity to Request Administrative Review, 70 FR 65883 (November 1, 2005). On December 27, 28, and 30, 2005, the Department received timely requests to conduct an administrative review of honey from Argentina. On February 1, 2006, the Department published a notice of initiation of an antidumping duty review for the December 1, 2004, through November 30, 2005 period of review. See Initiation of Antidumping Duty Reviews, 71 FR 5241 (February 1, 2006). The preliminary results for this administrative review are currently due no later than September 5, 2006.

Extension of Time Limits for Preliminary Results

Section 751(a)(3)(A) of the Tariff Act of 1930, as amended (the Tariff Act), requires the Department to complete the preliminary results of an administrative review within 245 days after the last day of the anniversary month of an order for which a review is requested. However, if it is not practicable to complete the review within these time periods, section 751(a)(3)(A) of the Tariff Act allows the Department to extend the time limit for the preliminary results to a maximum of 365 days after the last day of the anniversary month of an order for which a review is requested.

The Department has determined it is not practicable to complete this review within the statutory time limit because we require additional time to conduct a sales-below-cost investigation in this administrative review. The time needed to analyze the respondents' cost of production data and to develop fully the record in this review makes it impracticable to complete the preliminary results of this review within the originally anticipated time limit. Accordingly, the Department is extending the time limit for completion of the preliminary results of this administrative review until no later than December 20, 2006, which is 354 days from the last day of the anniversary month of the order on honey from Argentina. We intend to issue the final results no later than 120 days after publication of the preliminary results notice.

This extension is in accordance with section 751(a)(3)(A) of the Tariff Act.

Dated: August 29, 2006.
Stephen Claeys,
Deputy Assistant Secretary for Import Administration.

[FR Doc. E6-14723 Filed 9-5-06; 8:45 am]

BILLING CODE 3510-DS-S